DEPARTMENT OF HEALTH AND HUMAN SERVICES

Administration for Children and Families

Submission for OMB Review; Head Start (HS) Connects: Individualizing and Connecting Families to Family Support Services (New Collection)

AGENCY: Office of Planning, Research, and Evaluation; Administration for Children and Families; HHS.

ACTION: Request for public comment.

SUMMARY: The Administration for Children and Families (ACF) at the U.S. Department of Health and Human Services (HHS) seeks approval to conduct semi-structured, qualitative interviews with Head Start staff, parents/guardians, and community providers at six Head Start programs for case studies that explore case management and coordination of family support services.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The case studies proposed as part of the Head Start (HS) Connects: Individualizing and Connecting Families to Family Support Services project are intended to build knowledge about how Head Start programs (Head Start or Early Head Start grantees, delegate agencies, and staff) across the country coordinate family well-being services for parents/guardians and tailor coordination processes to individual family needs. The case studies will explore case management and coordination of family support services from multiple perspectives, including from the perspective of Head Start Administrators/Family and Community Partnerships Managers, Family Support Staff, Other Staff, Parents/Guardians, and Community Providers, at each of the six study sites during site visits. The case studies will further inform the development of design options for a large-scale descriptive study of Head Start programs nationally that is focused on describing how Head Start programs coordinate family support services for parents/guardians.

Respondents: Head Start Administrator/Family and Community Partnerships Manager, Head Start Family Support Staff, Other Head Start Staff, Parents/Guardians, Community Providers.

Annual Burden Estimates
Instrument | Total/annual number of respondents | Number of responses per respondent | Average burden hours per response | Annual burden hours
Head Start Administrator/Family and Community Partnerships Manager pre-visit call | 6 | 1 | 1 | 6
Head Start Family Support Staff pre-visit call | 18 | 1 | .5 | 9
Head Start Administrator/Family and Community Partnerships Manager interview | 6 | 1 | 2 | 12
Head Start Family Support Staff interview | 18 | 1 | 2.5 | 45
Head Start Other Staff interview | 18 | 1 | 1 | 18
Parent/Guardian interview | 24 | 1 | 2 | 48
Community Providers interview | 12 | 1 | 1 | 12

Estimated Total Annual Burden Hours: 150.

Authority: Section 640(a)(2)(D) and section 649 of the Improving Head Start for School Readiness Act of 2007

Mary B. Jones,
ACF/OPRE Certifying Officer.

[FR Doc. 2019-21893 Filed 10-7-19; 8:45 am]

BILLING CODE 4184-22-P